DEPARTMENT OF LABOR

Bureau of Labor Statistics

Labor Research Advisory Council: Notice of Meetings and Agenda

The Spring meetings of committees of the Labor Research Advisory Council will be held on June 3, 4, and 5, 2002. All of the meetings will be held in the Conference Center, of the Postal Square Building (PSB), 2 Massachusetts Avenue, NE., Washington, DC.

The Labor Research Advisory Council and its committees advise the Bureau of Labor Statistics with respect to technical matters associated with the Bureau's programs. Membership consists of union research directors and staff members. The schedule and agenda of the meetings are as follows:

Monday, June 3, 2002

9:30 a.m.—Committee on Employment and Unemployment Statistics—Meeting Room 9

1. Current Employment Statistics (CES) survey North American Industry Classification System (NAICS) conversion plans.

2. BLS research into establishment wage differentials (using Occupational Employment Statistics (OES) data).

3. Current Population Survey (CPS) topics:

a. Issues in converting to new standards for race and ethnicity.

b. Overview of May 2001 Supplement results related to work at home, shift work, overtime, and work preferences.

4. Topics for the next meeting.

1:30 p.m.—Committee on Productivity, Technology and Growth—Meeting Room 9

1. The impact of alternative measures of nonproduction and supervisory worker hours on productivity growth.

2. Status report on likely new measures for service sector industries.

3. Productivity growth in manufacturing industries characterized by “high tech” workers.

4. Highlights of the BLS 2000-2010 projections.

5. Topics for the next meeting.

Committee on Foreign Labor Statistics Meeting Room 9

1. Results from updated comparative labor force series.

2. Topics for the next meeting.

Tuesday, June 4, 2002

9:30 a.m.—Committee on Compensation and Working Conditions—Meeting Room 9

1. Recent issues concerning retirement plans.

2. Overview of the Employment Cost Index.

3. Calculation of hours in the Employment Cost Index.

4. Topics for next meeting.

1:30 p.m.—Committee on Prices and Living Conditions—Meeting Room 9

1. Update on program developments.

a. Consumer Price Index.

b. International Price Indexes.

c. Producer Price Indexes.

2. Topics for the next meeting.

Wednesday, June 5, 2002

1:00 p.m.—Committee on Occupational Safety and Health Statistics—Meeting Room 9

1. 2000 Survey of Occupational Injuries and Illnesses-Industry Incidence Rates and Number of Cases.

2. 2000 Survey of Occupational Injuries and Illnesses-Worker Demographics and Case Circumstances.

3. Survey of Respirator Use and Practices.

4. Status Reports on:

a. 2001 Survey of Occupational Injuries and Illnesses.

b. 2002 Survey of Occupational Injuries and Illnesses.

5. Injury and Illness Follow-back Surveys.

6. Injuries and Illnesses involving restricted activity only.

7. Budget status.

8. Topics for the next meeting.

The meetings are open to the public. Persons planning to attend these meetings as observers may want to contact Wilhelmina Abner on 202-691-5970.

Signed at Washington, DC this 6th day of May, 2002.
Lois L. Orr,
Acting Commissioner.

[FR Doc. 02-12152 Filed 5-14-02; 8:45 am]

BILLING CODE 4510-24-P